FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 011648-010.

Title: APL/Lykes/TMM Space Charter and Sailing Agreement.

Parties: American President Lines, Ltd./APL Co. Pte Ltd. (“APL”); Lykes Lines Limited, LLC (“Lykes”); and TMM Lines Limited, LLC (“TMM”).

Filing Party: Wayne R. Rohde, Esq.; Sher & Blackwell, LLP; 1850 M Street, NW.; Suite 900; Washington, DC 20036.

Synopsis: The amendment changes Lykes' name to CP Ships USA, LLC effective June 1, 2005, deletes TMM from the agreement effective July 1, 2005, makes corresponding changes throughout the agreement, updates Article 5.11 regarding further agreements, and restates the agreement.

Agreement No.: 011743-005.

Title: Global Transportation Network Agreement.

Parties: APL Co. Pte. Ltd.; American President Lines, Ltd.; Companhia Libra de Navegacao; Compania Sud-Americana de Vapores, S.A.; CP Ships (U.K.) Ltd.; Crowley Liner Services, Inc.; Hanjin Shipping Co., Ltd.; Kawasaki Kisen Kaisha, Ltd.; Lykes Lines Limited, LLC; Mitsui O.S.K. Lines, Ltd.; Montemar Maritima, S.A.; Norasia Container Lines Limited; Senator Lines GmbH; TMM Lines Limited, LLC; Wan Hai Lines Ltd.; Yangming Marine Transport Corp.; Zim Integrated Shipping Services, Ltd.

Filing Party: Eric C. Jeffrey, Esq.; Goodwin Procter LLP; 901 New York Avenue, NW.; Washington, DC 20001.

Synopsis: The amendment changes the name of Lykes Lines Limited, LLC to CP Ships USA, LLC effective June 1, 2005, and deletes TMM Lines Limited, LLC as a party to the agreement effective July 1, 2005.

Dated: May 27, 2005.
By Order of the Federal Maritime Commission.
Karen V. Gregory,
Assistant Secretary.

[FR Doc. 05-10979 Filed 6-1-05; 8:45 am]

BILLING CODE 6730-01-P